INTERNATIONAL TRADE COMMISSION

[Investigation No. 337-TA-1049]

Certain Digital Cable and Satellite Products, Set-Top Boxes, Gateways and Components Thereof; Commission Determination Not To Review an Initial Determination Granting a Joint Unopposed Motion To Terminate the Investigation Based on a License Agreement; Termination of the Investigation

AGENCY: U.S. International Trade Commission.

ACTION: Notice.

SUMMARY: Notice is hereby given that the U.S. International Trade Commission has determined not to review an initial determination (Order No. 37) granting a joint unopposed motion to terminate the investigation based on a license agreement.

FOR FURTHER INFORMATION CONTACT: Lucy Grace D. Noyola, Office of the General Counsel, U.S. International Trade Commission, 500 E Street SW, Washington, DC 20436, telephone 202-205-3438. Copies of non-confidential documents filed in connection with this investigation are or will be available for inspection during official business hours (8:45 a.m. to 5:15 p.m.) in the Office of the Secretary, U.S. International Trade Commission, 500 E Street SW, Washington, DC 20436, telephone 202-205-2000. General information concerning the Commission may also be obtained by accessing its internet server (https://www.usitc.gov). The public record for this investigation may be viewed on the Commission's electronic docket (EDIS) at https://edis.usitc.gov. Hearing-impaired persons are advised that information on this matter can be obtained by contacting the Commission's TDD terminal on 202-205-1810.

SUPPLEMENTARY INFORMATION: The Commission instituted this investigation on April 18, 2017, based on a complaint filed by Sony Corporation of Tokyo, Japan and Sony Electronics Inc. of San Diego, California (collectively, “Sony”), alleging a violation of section 337 of the Tariff Act of 1930, as amended, 19 U.S.C. 1337. 82 FR 18310 (Apr. 18, 2017). The complaint, as supplemented, alleges violations of section 337 in the sale for importation, importation and sale after importation of certain digital cable and satellite products, set-top boxes, gateways, and components thereof by reason of infringement of certain claims of U.S. Patent Nos. 6,467,093; 8,032,919; 6,556,221; 6,915,525; and RE45,126. The notice of investigation names as respondents ARRIS International plc, ARRIS Group, Inc., ARRIS Enterprises LLC, and ARRIS Solutions, Inc., all of Suwanee, Georgia; ARRIS Technology, Inc. of Horsham, Pennsylvania; ARRIS Global Ltd. (formerly Pace Ltd.) of Saltaire, England; and Pace Americas, LLC, Pace Americas Holdings, Inc., Pace USA LLC, and Pace Americas Investments LLC, all of Boca Raton, Florida (collectively, “ARRIS”). Id. at 18310-11. The Office of Unfair Import Investigations (“OUII”) is also named as a party. Id. at 18311.

On December 15, 2017, Sony and ARRIS filed a joint motion to terminate the investigation based on a patent cross license agreement. On December 18, 2017, OUII filed a response supporting the motion.

On December 27, 2017, the presiding administrative law judge (“ALJ”) issued the subject initial determination (“ID”) (Order No. 37), granting the motion. The ALJ found that the cross license agreement is not contrary to the public interest, that good cause has been shown for termination of the investigation, and that termination of the investigation is in the public interest. No petitions for review of the subject ID were filed.

The Commission has determined not to review the subject ID.

The authority for the Commission's determination is contained in section 337 of the Tariff Act of 1930, as amended (19 U.S.C. 1337), and in part 210 of the Commission's Rules of Practice and Procedure (19 CFR part 210).

By order of the Commission.
Issued: January 19, 2018.
Lisa R. Barton,
Secretary to the Commission.

[FR Doc. 2018-01302 Filed 1-23-18; 8:45 am]

BILLING CODE 7020-02-P